DEPARTMENT OF COMMERCE

International Trade Administration

[A-588-836]

Polyvinyl Alcohol From Taiwan: Final Results of the Fourth Antidumping Duty Administrative Review

AGENCY: Import Administration, International Trade Administration, Department of Commerce.

ACTION: Notice of final results of fourth antidumping duty administrative review.

SUMMARY: On February 22, 2001, the Department of Commerce published the preliminary results of the fourth antidumping duty administrative review of the antidumping duty order on polyvinyl alcohol from Taiwan. The review covers Chang Chun Petrochemical Company Ltd., a manufacturer/exporter of the subject merchandise. The period of review is May 1, 1999, through April 30, 2000.

We received no comments from interested parties on our preliminary results. Therefore, we have made no changes to the margin calculation. Therefore, the final results do not differ from the preliminary results. The final weighted-average dumping margin for Chang Chun Petrochemical Company Ltd. is listed below in the section entitled “Final Results of the Review.”

EFFECTIVE DATE: June 28, 2001.

FOR FURTHER INFORMATION CONTACT: Brian Ledgerwood or Brian Smith, Import Administration, International Trade Administration, U.S. Department of Commerce, Washington, DC 20230; telephone: (202) 482-3836 or (202) 482-1766, respectively.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to 19 CFR part 351 (April 2000).

Background

The review covers one manufacturer/exporter, Chang Chun Petrochemical Company Ltd. (“Chang Chun”). The period of review (“POR”) is May 1, 1999, through April 30, 2000.

On February 22, 2001, the Department published in the Federal Register the preliminary results of the fourth antidumping duty administrative review of the antidumping duty order on polyvinyl alcohol (“PVA”) from Taiwan (66 FR 11137).

We invited parties to comment on the preliminary results of the review. No interested party submitted comments. The Department has conducted this administrative review in accordance with section 751 of the Act.

Scope of the Order

The product covered by this order is PVA. PVA is a dry, white to cream-colored, water-soluble synthetic polymer. This product consists of polyvinyl alcohols hydrolyzed in excess of 85 percent, whether or not mixed or diluted with defoamer or boric acid. Excluded from this order are PVAs covalently bonded with acetoacetylate, carboxylic acid, or sulfonic acid uniformly present on all polymer chains in a concentration equal to or greater than two mole percent, and PVAs covalently bonded with silane uniformly present on all polymer chains in a concentration equal to or greater than one-tenth of one mole percent. PVA in fiber form is not included in the scope of this order.

The merchandise under order is currently classifiable under subheading 3905.30.00 of the Harmonized Tariff Schedule of the United States (“HTSUS”). Although the HTSUS subheading is provided for convenience and customs purposes, our written description of the scope is dispositive.

Final Results of the Review

Since neither party submitted comments for consideration in the final results, our final results remain unchanged from the preliminary results. The following weighted-average margin percentage remains for Chang Chun for the period May 1, 1999, through April 30, 2000:

Manufacturer/exporter | Margin (percent)
Chang Chun | 0.00

The Department shall determine, and Customs shall assess, antidumping duties on all appropriate entries. In accordance with 19 CFR 351.106(c)(2), we will instruct the Customs Service to assess antidumping duties on all appropriate entries covered by this review if any importer-specific assessment rate calculated in the final results of this review is above de minimis (i.e., at or above 0.50 percent).

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Cash deposits are no longer required on or after May 14, 2001, the effective date of revocation of the antidumping duty order on PVA as a result of the five-year sunset review (see 66 FR 22145, May 3, 2001).

This notice also serves as the only reminder to parties subject to administrative protective order (“APO”) of their responsibility concerning the return or destruction of proprietary information disclosed under APO in accordance with 19 CFR 351.305(a)(3). Timely written notification of return or destruction of APO materials or conversion to judicial protective order is hereby requested. Failure to comply with the regulations and terms of an APO is a violation which is subject to sanction.

We are issuing and publishing this determination and notice in accordance with sections 751(a)(1) and 777(i) of the Act.

Dated: June 21, 2001.
Faryar Shirzad,
Assistant Secretary for Import Administration.

[FR Doc. 01-16296 Filed 6-27-01; 8:45 am]

BILLING CODE 3510-DS-P